DEPARTMENT OF COMMERCE

National Oceanic and Atmospheric Administration

[I.D. 011805F]

Western Pacific Fishery Management Council; Pelagics Plan Team; Public Meeting

AGENCY: National Marine Fisheries Service (NMFS), National Oceanic and Atmospheric Administration (NOAA), Commerce.

ACTION: Notice of public meeting.

SUMMARY: The Western Pacific Fishery Management Council(Council) will hold a meeting of its Pelagics Plan Team (PPT) to discuss overfishing of Pacific bigeye tuna and to develop recommendations for future management. The agenda for the meeting can be found under the SUPPLEMENTARY INFORMATION section of this notice.

DATES: The meeting will be held on February 10, 2005, from 8:30 a.m. to 5 p.m.

ADDRESSES: The meeting will be held at the Council Office Conference Room, Western Pacific Fishery Management Council, 1164 Bishop St., Suite 1400, Honolulu, HI 96813; phone: 808-522-8220.

FOR FURTHER INFORMATION CONTACT: Kitty M. Simonds, Executive Director; phone: 808-522-8220.

SUPPLEMENTARY INFORMATION: The PPT will meet to discuss the following agenda items:

1. Introduction

2. First meeting of the Western and Central Pacific Fishery Management Commission

3. Fishery management options for Pacific bigeye and yellowfin tunas:

a. International fisheries

b. Domestic fisheries

4. Bigeye quota for the Eastern Tropical Pacific Ocean

5. Other business

The order in which the agenda items are addressed may change.

Although non-emergency issues not contained in this agenda may come before the PPT for discussion, those issues may not be the subject of formal action during these meetings. PPT action will be restricted to those issues specifically listed in this document and any issue arising after publication of this document that requires emergency action under section 305(c) of the Magnuson-Stevens Fishery Conservation and Management Act, provided the public has been notified of the Council's intent to take final action to address the emergency.

Special Accommodations

The meeting locations are physically accessible to people with disabilities. Requests for sign language interpretation or other auxiliary aids should be directed to Kitty M. Simonds, 808-522-8220 (voice) or 808-522-8226 (fax), at least five days prior to the meeting date.

Dated: January 21, 2005.
Emily Menashes,
Acting Director, Office of Sustainable Fisheries, National Marine Fisheries Service.

[FR Doc. 05-1460 Filed 1-26-05; 8:45 am]

BILLING CODE 3510-22-S